DEPARTMENT OF EDUCATION

Notice of Submission for OMB Review; Office of Postsecondary Education; Survey of Post-Graduate Outcomes for International Education Fellowship Recipients

SUMMARY: This survey will focus on the post-graduate outcomes of students who received international education fellowships. The Higher Education Opportunity Act of 2008, Section 601 requires that: “The Secretary shall assist grantees in developing a survey to administer to students who have completed programs under this title to determine postgraduate employment, education, or training. All grantees, where applicable, shall administer such survey once every two years and report survey results to the Secretary.”

DATES: Interested persons are invited to submit comments on or before November 8, 2012.

ADDRESSES: Comments submitted in response to this notice should be submitted electronically through the Federal eRulemaking Portal at http://www.regulations.gov by selecting Docket ID number ED-2012-OPE-0034 or via postal mail, commercial delivery, or hand delivery. Please note that comments submitted by fax or email and those submitted after the comment period will not be accepted. Written requests for information or comments submitted by postal mail or delivery should be addressed to the Director of the Information Collection Clearance Division, U.S. Department of Education, 400 Maryland Avenue, SW., LBJ, Room 2E117, Washington, DC 20202-4537.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Acting Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Survey of Post-Graduate Outcomes for International Education Fellowship Recipients.

OMB Control Number: Pending.

Type of Review: New.

Total Estimated Number of Annual Responses: 4,555.

Total Estimated Number of Annual Burden Hours: 791.

Abstract: The first cohort of students to be surveyed will be the Foreign Language and Area Studies fellows and the Institute for International Public Policy fellows. The survey will be expanded to other grantees in subsequent years. This is a longitudinal survey that will be conducted every two years for a total of eight years for each cohort. Grantees will administer the survey to all fellows in these selected programs after they have graduated from the degree program they were enrolled in when they received their fellowship. Grantees will submit the results of the survey to the International for Foreign Language Education (IFLE) office within the U.S. Department of Education. IFLE will analyze the data and provide a report that will be available to the public. The results will be used to assess program impact.

Dated: October 3, 2012.
Kate Mullan,
Acting Director, Information Collection Clearance Division, Privacy, Information and Records Management Services, Office of Management.

[FR Doc. 2012-24789 Filed 10-5-12; 8:45 am]

BILLING CODE 4000-01-P